DEPARTMENT OF STATE

[Public Notice:12207]

Notice of Determinations; Additional Culturally Significant Object Being Imported for Exhibition—Determinations: “Scripture and Science: Our Universe, Ourselves, and Our Place” Exhibition

SUMMARY: On January 3, 2023, notice was published on page 125 of the Federal Register (volume 88, number 1) of determinations pertaining to certain objects to be included in an exhibition entitled “Scripture and Science: Our Universe, Ourselves, and Our Place.” On April 4, 2023, notice was published on page 20015 of the Federal Register (volume 88, number 64) of determinations pertaining to certain additional objects to be included in the aforesaid exhibition. Notice is hereby given of the following determinations: I hereby determine that a certain additional object being imported from abroad pursuant to an agreement with its foreign owner or custodian for temporary display in the aforesaid exhibition at the Museum of the Bible, Washington, District of Columbia, and at possible additional exhibitions or venues yet to be determined, is of cultural significance, and, further, that its temporary exhibition or display within the United States as aforementioned is in the national interest. I have ordered that Public Notice of these determinations be published in the Federal Register.

FOR FURTHER INFORMATION CONTACT: Reed Liriano, Program Coordinator, Office of the Legal Adviser, U.S. Department of State (telephone: 202-632-6471; email: section2459@state.gov). The mailing address is U.S. Department of State, L/PD, 2200 C Street NW (SA-5), Suite 5H03, Washington, DC 20522-0505.

SUPPLEMENTARY INFORMATION: The foregoing determinations were made pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236-3 of August 28, 2000, and Delegation of Authority No. 523 of December 22, 2021.

Nicole L. Elkon,
Deputy Assistant Secretary for Professional and Cultural Exchanges, Bureau of Educational and Cultural Affairs, Department of State.

[FR Doc. 2023-22357 Filed 10-6-23; 8:45 am]

BILLING CODE 4710-05-P